BUREAU OF CONSUMER FINANCIAL PROTECTION

[Docket No: CFPB-2014-0008]

Agency Information Collection Activities: Submission for OMB Review; Comment Request

AGENCY: Bureau of Consumer Financial Protection.

ACTION: Notice and request for comment.

SUMMARY: In accordance with the Paperwork Reduction Act of 1995 (PRA), the Consumer Financial Protection Bureau (CFPB) is proposing a new information collection titled, “Consumer Complaint Intake System Company Portal Boarding Form Information Collection System.”

DATES: Written comments are encouraged and must be received on or before May 21, 2015 to be assured of consideration.

ADDRESSES: You may submit comments, identified by the title of the information collection, OMB Control Number (see below), and docket number (see above), by any of the following methods:

• Electronic: http://www.regulations.gov. Follow the instructions for submitting comments.

• OMB: Office of Management and Budget, New Executive Office Building, Room 10235, Washington, DC 20503 or fax to (202) 395-5806. Mailed or faxed comments to OMB should be to the attention of the OMB Desk Officer for the Bureau of Consumer Financial Protection.

Please note that comments submitted after the comment period will not be accepted. In general, all comments received will become public records, including any personal information provided. Sensitive personal information, such as account numbers or social security numbers, should not be included.

FOR FURTHER INFORMATION CONTACT: Documentation prepared in support of this information collection request is available at www.reginfo.gov (this link active on the day following publication of this notice). Select “information Collection Review,” under “Currently under review, use the dropdown menu “Select Agency” and select “Consumer Financial Protection Bureau” (recent submissions to OMB will be at the top of the list). The same documentation is also available at http://www.regulations.gov. Requests for additional information should be directed to the Consumer Financial Protection Bureau, (Attention: PRA Office), 1700 G Street NW., Washington, DC 20552, (202) 435-9575, or email: PRA@cfpb.gov. Please do not submit comments to this email box.

SUPPLEMENTARY INFORMATION: Title of Collection: Consumer Complaint Intake System Company Portal Boarding Form Information Collection System.

OMB Control Number: 3170-XXXX.

Type of Review: New collection (Request for a new OMB control number).

Affected Public: Private sector.

Estimated Number of Annual Respondents: 1,500.

Estimated Total Annual Burden Hours: 1,175.

Abstract: The Dodd-Frank Wall Street Reform and Consumer Protection Act, Public Law 111-203, Title X, provides for CFPB's consumer complaint handling function. Among other things, the CFPB is to facilitate the centralized collection of, monitoring of, and response to complaints concerning consumer financial products and services. To support the appropriate routing of complaints to the companies that are the subjects of the complaints, the CFPB is developing a form which will allow companies to proactively participate in the CFPB's Company Portal (Company Portal), a secure, web-based interface between the CFPB's Office of Consumer Response (Consumer Response) and companies. The Company Portal allows companies to view and respond to complaints submitted through the CFPB's complaint handling system. Many companies have sought to register with the Company Portal before consumer complaints have been submitted to the CFPB about their companies to ensure early notice of potential complaints and allow companies' users to acclimate to the software and security protocols needed to access the Company Portal. The CFPB's proposed Form, the Company Portal Boarding Form (Boarding Form), will serve to streamline information collection from these companies, result in a greatly enhanced and efficient experience from both the consumers and companies' perspectives.

Request for Comments: The CFPB issued a 60-day Federal Register notice on December 4, 2014 (79 FR 71984). Comments were solicited and continue to be invited on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: April 14, 2015.
Ashwin Vasan,
Chief Information Officer, Bureau of Consumer Financial Protection.

[FR Doc. 2015-09251 Filed 4-20-15; 8:45 am]

BILLING CODE 4810-AM-P